DEPARTMENT OF THE INTERIOR

National Park Service

[NPS-NERO-GATE-33195; PPNEGATEB0, PPMVSCS1Z.Y00000]

Request for Nominations for the Gateway National Recreation Area Fort Hancock 21st Century Advisory Committee

AGENCY: National Park Service, Interior.

ACTION: Request for nominations.

SUMMARY: The National Park Service (NPS), U.S. Department of the Interior, is requesting nominations for qualified persons to serve as members of the Gateway National Recreation Area Fort Hancock 21st Century Advisory Committee (Committee).

DATES: Written nominations must be received by April 5, 2022.

ADDRESSES: Nominations should be sent to Daphne Yun, Public Affairs Specialist, U.S. Department of the Interior, National Park Service, Gateway National Recreation Area, Office of the Superintendent, 210 New York Avenue, Staten Island, New York 10305, or email daphne_yun@nps.gov.

FOR FURTHER INFORMATION CONTACT: Daphne Yun, via telephone at (718) 815-3651.

SUPPLEMENTARY INFORMATION: The Committee was established by authority of the Secretary of the Interior under 54 U.S.C. 100906, and in accordance with the Federal Advisory Committee Act (5 U.S.C. appendix 1-16). The purpose of the Committee is to advise the Secretary of the Interior, through the Director of the NPS, on the development of a reuse plan and on matters relating to future uses of certain buildings at the Fort Hancock Historic District, located within the Sandy Hook Unit of Gateway National Recreation Area in New Jersey.

The Committee consists of representatives from among, but not limited to, the following interest groups, to represent a range of interests concerned with the management of Fort Hancock within the park and its impact on the local area: The natural resource community; the business community; the cultural resource community; the real estate community; the recreation community; the education community; the scientific community; and hospitality organizations. The Committee will also include representatives from the following municipalities: Borough of Highlands, Borough of Sea Bright, Borough of Rumson, Middletown Township, Monmouth County Freeholders, and Borough of Monmouth Beach. We are currently seeking members to represent all categories, especially hospitality organizations, including tourism and recreation. Nominations should be typed and include a resume providing an adequate description of the nominee's qualifications, including information that establish their membership requirements and permit the Department to contact them. All documentation, including letters of recommendation, must be compiled and submitted in one complete package. All those interested in membership, including current members whose terms are expiring, must follow the same nomination process. Members may not appoint deputies or alternates.

Members of the Committee serve without compensation. However, while away from their homes or regular places of business in the performance of services for the Committee as approved by the NPS, members may be allowed travel expenses, including per diem in lieu of subsistence, in the same manner as persons employed intermittently in Government service are allowed such expenses under section 5703 of title 5 of the United States Code.

Authority: 54 U.S.C. 100906.

Alma Ripps,
Chief, Office of Policy.

[FR Doc. 2022-02419 Filed 2-3-22; 8:45 am]

BILLING CODE 4312-52-P